DEPARTMENT OF LABOR

Office of the Secretary

Agency Information Collection Activities; Submission for OMB Review; Comment Request; Demonstration and Evaluation of the Short-Time Compensation Program

ACTION: Notice.

SUMMARY: The Department of Labor (DOL) is submitting the information collection request (ICR) proposal titled, “Demonstration and Evaluation of the Short-Time Compensation Program,” to the Office of Management and Budget (OMB) for review and approval for use in accordance with the Paperwork Reduction Act (PRA) of 1995 (44 U.S.C. 3501 et seq.). Public comments on the ICR are invited.

DATES: The OMB will consider all written comments that agency receives on or before September 28, 2015.

ADDRESSES: A copy of this ICR with applicable supporting documentation; including a description of the likely respondents, proposed frequency of response, and estimated total burden may be obtained free of charge from the RegInfo.gov Web site at http://www.reginfo.gov/public/do/PRAViewICR?ref_nbr=201504-1291-002 (this link will only become active on the day following publication of this notice) or by contacting Michel Smyth by telephone at 202-693-4129 (this is not a toll-free number) or by email at DOL_PRA_PUBLIC@dol.gov.

Submit comments about this request by mail or courier to the Office of Information and Regulatory Affairs, Attn: OMB Desk Officer for DOL-OASAM, Office of Management and Budget, Room 10235, 725 17th Street, NW., Washington, DC 20503; by Fax: 202-395-5806 (this is not a toll-free number); or by email: OIRA_submission@omb.eop.gov. Commenters are encouraged, but not required, to send a courtesy copy of any comments by mail or courier to the U.S. Department of Labor-OASAM, Office of the Chief Information Officer, Attn: Departmental Information Compliance Management Program, Room N1301, 200 Constitution Avenue NW., Washington, DC 20210; or by email: DOL_PRA_PUBLIC@dol.gov.

FOR FURTHER INFORMATION CONTACT: Michel Smyth by telephone at 202-693-4129 (this is not a toll-free number) or by email at DOL_PRA_PUBLIC@dol.gov.

Authority: 44 U.S.C. 3507(a)(1)(D).

SUPPLEMENTARY INFORMATION: This ICR seeks PRA authority for the Demonstration and Evaluation of the Short-Time Compensation Program (STC) information collection. The STC program is an option within the Unemployment Insurance (UI) system that allows an employer to reduce the hours of workers, while permitting workers to receive partial UI benefits for the non-worked hours. The objective of STC is to avoid layoffs during periods of reduced labor demand and, thereby, allow businesses to maintain their operations, retain valued employees, and prevent company morale from deteriorating. The DOL seeks to conduct a rigorous demonstration and impact evaluation of STC programs in two states in order better to understand the reasons for low take-up of STC and to evaluate the effectiveness of interventions designed to increase employer use. More specifically, the DOL seeks OMB approval under the PRA for an information collection to conduct (1) in-depth interviews with state agency officials and employers and (2) employer surveys. These information collections are essential elements of the implementation study and the rigorous impact evaluation of the demonstration of the STC program. Middle Class Tax Relief and Job Creation Act of 2012 section 2166 authorizes this information collection. See 26 U.S.C. 3304 note.

This proposed information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid Control Number. See 5 CFR 1320.5(a) and 1320.6. For additional information, see the related notice published in the Federal Register on March 23, 2015 (80 FR 15252).

Interested parties are encouraged to send comments to the OMB, Office of Information and Regulatory Affairs at the address shown in the ADDRESSES section within thirty (30) days of publication of this notice in the Federal Register. In order to help ensure appropriate consideration, comments should mention OMB ICR Reference Number 201204-1291-002. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-OASAM.

Title of Collection: Demonstration and Evaluation of the Short-Time Compensation Program.

OMB ICR Reference Number: 201404-1291-002.

Affected Public: State, Local, and Tribal Governments; Private Sector—businesses or other for-profits.

Total Estimated Number of Respondents: 2,830.

Total Estimated Number of Responses: 2,858.

Total Estimated Annual Time Burden: 270 hours.

Total Estimated Annual Other Costs Burden: $0.

Dated: August 21, 2015.
Michel Smyth,
Departmental Clearance Officer.

[FR Doc. 2015-21364 Filed 8-27-15; 8:45 am]

BILLING CODE 4510-23-P